DEPARTMENT OF THE INTERIOR

National Park Service

[NPS-WASO-NRNHL-DTS#-30536; PPWOCRADI0, PCU00RP14.R50000]

National Register of Historic Places; Notification of Pending Nominations and Related Actions

AGENCY: National Park Service, Interior.

ACTION: Notice.

SUMMARY: The National Park Service is soliciting electronic comments on the significance of properties nominated before July 27, 2020, for listing or related actions in the National Register of Historic Places.

DATES: Comments should be submitted electronically by July 31, 2020.

ADDRESSES: Comments are encouraged to be submitted electronically to National_Register_Submissions@nps.gov with the subject line “Public Comment on property or proposed district name, (County) State.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before June 27, 2020. Pursuant to § 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CONNECTICUT

Middlesex County

High Street Historic District, 7 Central Ave., 19-114 High St., and 1-62 John St., Clinton, SG100005404

GEORGIA

Fulton County

Whitehall Street Retail Historic District, Centered on Peachtree St. and Martin Luther King Jr. Dr. including Forsyth, Broad, Peachtree, and Mitchell Sts., Atlanta, SG100005409

MONTANA

Blaine County

St. Paul's Mission Church, 1 Mission Dr., Hays vicinity, SG100005403

WEST VIRGINIA

Kanawha County

St. Albans Railroad Industry Historic District, 4th and 5th Aves., 2nd-6th Sts., St. Albans, SG100005412

A request for removal has been made for the following resources:

IOWA

Crawford County

East Soldier River Bridge (Highway Bridges of Iowa MPS), 120th St. over East Soldier R., Charter Oak vicinity, OT98000798

Beaver Creek Bridge (Highway Bridges of Iowa MPS), 180th St. between B and C Aves. over Beaver Cr., Schleswig vicinity, OT98000799

Henry County

Smith and Weller Building, 100 East Main St., New London, OT03000830

Additional documentation has been received for the following resource):

WEST VIRGINIA

Greenbrier County

Mountain Home (Additional Documentation), SW of White Sulphur Springs on U.S. 60, White Sulphur Springs vicinity, AD80004020

Authority: Section 60.13 of 36 CFR part 60.

Dated: June 30, 2020.
Sherry A. Frear,
Chief, National Register of Historic Places/National Historic Landmarks Program.

[FR Doc. 2020-15343 Filed 7-15-20; 8:45 am]

BILLING CODE 4312-52-P